OFFICE OF PERSONNEL MANAGEMENT

Senior Executive Service-Performance Review Board

AGENCY: Office of Personnel Management.

ACTION: Notice.

SUMMARY: Notice is hereby given of the appointment of members of the OPM Performance Review Board.

FOR FURTHER INFORMATION CONTACT: Carmen Garcia, OPM Human Resources, Office of Personnel Management, 1900 E Street NW, Washington, DC 20415, (202) 606-1048.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Alexys Stanley,
Regulatory Affairs Analyst.

The following have been designated as members of the Performance Review Board of the U.S. Office of Personnel Management:

Basil Parker, Chief of Staff, Chair

Alexandra Czwartacki, Senior Advisor for Operations

Mark Robbins, General Counsel

Kathleen McGettigan, Chief Management Officer

George Nesterczuk, Senior Advisor to the Director

Lisa Loss, Director of Suitability Executive Agent Programs

Dennis Coleman, Chief Financial Officer

Tyshawn Thomas, Chief Human Capital Officer

Mark Lambert, Associate Director for MSAC

[FR Doc. 2020-24693 Filed 11-5-20; 8:45 am]

BILLING CODE 6325-45-P